DEPARTMENT OF TRANSPORTATION

Federal Aviation Administration

14 CFR Part 39

[Docket No. FAA-2008-0461; Directorate Identifier 2008-NE-14-AD; Amendment 39-15678; AD 2008-19-11]

RIN 2120-AA64

Airworthiness Directives; Turbomeca S.A. Arrius 2B1, 2B1A, 2B2, and 2K1 Turboshaft Engines

AGENCY: Federal Aviation Administration (FAA), Department of Transportation (DOT).

ACTION: Final rule; request for comments.

SUMMARY: We are adopting a new airworthiness directive (AD) for the products listed above. This AD results from mandatory continuing airworthiness information (MCAI) provided by the European Aviation Safety Agency (EASA) to identify and correct an unsafe condition on Turbomeca S.A. Arrius 2B1, 2B1A, 2B2, and 2K1 turboshaft engines. The MCAI describes the unsafe condition as:

A short circuit of some tantalum capacitors inside certain electronic control (EEC) units may lead to an in-flight shutdown on one of the two engines resulting from:

—Direct activation of the overspeed electronic protection;

—Non-direct activation of the electronic overspeed protection by lowering the threshold,

—Spurious activation of the starting sequence; or

—Loss of power control with no freeze of the fuel-metering valve.

We are issuing this AD to prevent in-flight engine shutdowns and possible forced autorotation landing or accident.

DATES: This AD becomes effective October 8, 2008.

The Director of the Federal Register approved the incorporation by reference of Turbomeca S.A. Mandatory Service Bulletin No. 319 73 2835, Update No. 1, dated December 21, 2006, listed in the AD as of October 8, 2008.

We must receive comments on this AD by October 23, 2008.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: James Lawrence, Aerospace Engineer, Engine Certification Office, FAA, Engine & Propeller Directorate, 12 New England Executive Park, Burlington, MA 01803; e-mail: james.lawrence@faa.gov; telephone (781) 238-7176; fax (781) 238-7199.

SUPPLEMENTARY INFORMATION:

Discussion

EASA, which is the Technical Agent for the Member States of the European Community, has issued EASA AD 2008-0018, dated January 24, 2008, to correct an unsafe condition for the specified products. The EASA AD states:

A short circuit of some tantalum capacitors inside certain electronic control (EEC) units may lead to an in-flight shutdown on one of the two engines resulting from:

—Direct activation of the overspeed electronic protection;

—Non-direct activation of the electronic overspeed protection by lowering the threshold,

—Spurious activation of the starting sequence; or

—Loss of power control with no freeze of the fuel-metering valve.

You may obtain further information by examining the MCAI in the AD docket.

Relevant Service Information

Turbomeca S.A. has issued Mandatory Service Bulletin No. 319 73 2835, Update No. 1, dated December 21, 2006. The actions described in this service information are intended to correct the unsafe condition identified in the MCAI.

FAA's Determination and Requirements of This AD

This product has been approved by the aviation authority of France, and is approved for operation in the United States. Pursuant to our bilateral agreement with France, they have notified us of the unsafe condition described in the MCAI AD and service information referenced above. We are issuing this AD because we evaluated all the information provided by the EASA and determined the unsafe condition exists and is likely to exist or develop on other products of the same type design. This AD requires identifying, and replacing or modifying affected EEC units that have tantalum capacitors installed that could have become brittle during their acceptance test.

FAA's Determination of the Effective Date

An unsafe condition exists that requires the immediate adoption of this AD. The FAA has found that the risk to the flying public justifies waiving notice and comment prior to adoption of this rule because of the short compliance time requirement of within the next 100 flight hours or 2 months, whichever occurs first. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0461; Directorate Identifier 2008-NE-14-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-19-11 Turbomeca S.A.: Amendment 39-15678; Docket No. FAA-2008-0461; Directorate Identifier 2008-NE-14-AD.

Effective Date

(a) This airworthiness directive (AD) becomes effective October 8, 2008.

Affected ADs

(b) None.

Applicability

(c) This AD applies to Turbomeca S.A. Arrius 2B1, 2B1A, 2B2, and 2K1 turboshaft engines. These engines are installed on, but not limited to, Eurocopter Deutschland GmbH EC135, and Agusta S.p.A. A109E helicopters.

Reason

(d) European Aviation Safety Agency (EASA) AD No. 2008-0018, dated January 24, 2008, states:

A short circuit of some tantalum capacitors inside certain electronic control (EEC) units may lead to an in-flight shutdown on one of the two engines resulting from:

—Direct activation of the overspeed electronic protection;

—Non-direct activation of the electronic overspeed protection by lowering the threshold;

—Spurious activation of the starting sequence; or

—Loss of power control with no freeze of the fuel-metering valve.

This AD requires identifying, and replacing or modifying affected EEC units that have tantalum capacitors installed that could have become brittle during their acceptance test. We are issuing this AD to prevent in-flight engine shutdowns and possible forced autorotation landing or accident.

Actions and Compliance

(e) Unless already done, within the next 100 flight hours or 2 months, whichever occurs first after the effective date of this AD, do the following actions:

(1) Identify the EEC units as listed in Turbomeca S.A. Mandatory Service Bulletin No. 319 73 2835, Update No. 1, dated December 21, 2006; and

(2) For affected EECs, modify or replace the EEC units using the instructions of Turbomeca S.A. Mandatory Service Bulletin No. 319 73 2835, Update No. 1, dated December 21, 2006.

(3) After the effective date of this AD, do not install an EEC with a serial number listed in Turbomeca S.A. Mandatory Service Bulletin No. 319 73 2835, Update No. 1, dated December 21, 2006 on any helicopter, unless it has been modified using the instructions of Turbomeca S.A. Mandatory Service Bulletin No. 319 73 2835, Update No. 1, dated December 21, 2006.

FAA AD Differences

(f) This AD requires modification or replacement of both EECs if both EECs are affected on the same helicopter, whereas MCAI EASA AD 2008-0018, dated January 24, 2008, requires modification of at least one EEC, if both EECs are affected, and modification or replacement of the remaining EEC, within 300 flight hours or 12 months, whichever occurs first.

(g) This AD immediately prohibits installation of any EECs that are affected, whereas MCAI EASA AD 2008-0018, dated January 24, 2008, prohibits installation of those EECs after February 7, 2009.

(h) Alternative Methods of Compliance (AMOCs): The Manager, Engine Certification Office, FAA, has the authority to approve AMOCs for this AD, if requested using the procedures found in 14 CFR 39.19.

Related Information

(i) Refer to MCAI EASA AD 2008-0018, dated January 24, 2008 for related information.

(j) Contact James Lawrence, Aerospace Engineer, Engine Certification Office, FAA, Engine & Propeller Directorate, 12 New England Executive Park, Burlington, MA 01803; e-mail: james.lawrence@faa.gov; telephone (781) 238-7176; fax (781) 238-7199, for more information about this AD.

Material Incorporated by Reference

(k) You must use Turbomeca S.A. Mandatory Service Bulletin No. 319 73 2835, Update No. 1, dated December 21, 2006, to do the actions required by this AD.

(l) The Director of the Federal Register approved the incorporation by reference of this service information under 5 U.S.C. 552(a) and 1 CFR part 51.

(m) For service information identified in this AD, contact Turbomeca S.A., 40220 Tarnos, France; telephone 33 05 59 74 40 00, fax 33 05 59 74 45 15.

(n) You may review copies at the FAA, New England Region, Office of the Regional Counsel, 12 New England Executive Park, Burlington, MA; or at the National Archives and Records Administration (NARA). For information on the availability of this material at NARA, call (202) 741-6030, or go to: http://www.archives.gov/federal-register/cfr/ibr-locations.html.

Issued in Burlington, Massachusetts, on September 11, 2008.
Peter A. White,
Assistant Manager, Engine and Propeller Directorate, Aircraft Certification Service.

[FR Doc. E8-21834 Filed 9-22-08; 8:45 am]

BILLING CODE 4910-13-P